DEPARTMENT OF HEALTH AND HUMAN SERVICES

Office of National AIDS Policy; Notice of Meeting of the Presidential Advisory Council and HIV/AIDS and Its Subcommittees

June 27, 2000.

Pursuant to P.L. 92-463, notice is hereby given of the meeting of the Presidential Advisory Council on HIV/AIDS scheduled for September 21-22, 2000 at the Madison Hotel, Washington, DC. The meeting of the Presidential Advisory Council on HIV/AIDS will take place of Thursday, September 21, and Friday, September 22 (8:30 a.m. to 6 p.m. on Thursday and Friday) at the Madison Hotel, 1177 15th Street, NW, Washington, D.C. 20005. The meetings will be open to the public.

The purpose of the subcommittee meetings will be to finalize any recommendations and assess the status of previous recommendations made to the Administration. The agenda of the Presidential Advisory Council of HIV/AIDS may include presentations from either of the Council's subcommittees, Services or Prevention.

Daniel C. Montoya, Executive Director, Presidential Advisory Council on HIV and AIDS, Office of National AIDS Policy, 736 Jackson Place, NW, Washington, DC 20503, Phone (202) 456-2437, Fax (202) 456-2438, will furnish the meeting agenda and roster of committee members upon request. Any individual who requires special assistance, such as sign language interpretation or other reasonable accommodations, should contact Vanessa Vaughn at (301) 986-4870 no later than August 25, 2000.

Daniel C. Montoya,
Executive Director, Presidential Advisory Council of HIV and AIDS.

[FR Doc. 00-16779 Filed 6-30-00; 8:45 am]

BILLING CODE 3195-01-M